FEDERAL MARITIME COMMISSION

[Docket No. 24-04]

ICL USA, Inc., Complainant v. Dependable Highway Express, Inc. and Mediterranean Shipping Company, (USA) INC., on Behalf Of Mediterranean Shipping Company, S.A., Respondents

Served: January 12, 2024.

Notice of Filing of Complaint and Assignment

Notice is given that a complaint has been filed with the Federal Maritime Commission (the “Commission”) by ICL USA, Inc. (the “Complainant”) against Dependable Highway Express, Inc. (“DHE”) and Mediterranean Shipping Company, (USA) Inc., on behalf of Mediterranean Shipping Company, S.A. (“MSC”). Complainant states that the Commission has subject matter jurisdiction over the complaint under the Shipping Act of 1998, as amended, 46 U.S.C. 40101 et seq. Complainant states that the Commission has personal jurisdiction over Respondent DHE as a party for the purposes of this proceeding when it acted directly or indirectly in conjunction with Respondent MSC in some instances and personal jurisdiction over Respondent MSC as an ocean common carrier as this term is defined at 46 U.S.C. 40102(18).

Complainant ICL USA, Inc. is a corporation organized and existing under the laws of the New York with its principal place of business in Rosedale, New York and acts as a destination agent in the United States for various affiliated Commission registered non-vessel-operating common carriers.

Complainant identifies Respondent DHE as a corporation organized and existing under the laws of California with a principal place of business in Los Angeles, California and as a Federal Motor Carrier Safety Administration motor carrier.

Complainant identified Respondent MSC as an entity headquartered in Geneva, Switzerland with an agent in the United States located in New York and as a vessel-operating common carrier.

Complainant alleges that the Respondents violated 46 U.S.C. 41104(a)(2)(A) and 41102(c) and 46 CFR 545.5, because Respondent DHE acted directly or indirectly in conjunction with Respondent MSC to assess unauthorized per diem related charges, including Admin Fees.

An answer to the complaint must be filed with the Commission within 25 days after the date of service.

The full text of the complaint can be found in the Commission's electronic Reading Room at https://www2.fmc.gov/readingroom/proceeding/24-04/. This proceeding has been assigned to the Office of Administrative Law Judges. The initial decision of the presiding judge shall be issued by January 13, 2025, and the final decision of the Commission shall be issued by July 28, 2025.

Alanna Beck,
Federal Register Alternate Liaison Officer, Federal Maritime Commission.

[FR Doc. 2024-01008 Filed 1-18-24; 8:45 am]

BILLING CODE 6730-02-P